DEPARTMENT OF HEALTH AND HUMAN SERVICES

Centers for Disease Control and Prevention

Notice of Award of a Single-Source Cooperative Agreement To Fund the National Institute for Communicable Diseases, Republic of South Africa

AGENCY: Centers for Disease Control and Prevention (CDC), Department of Health and Human Services (HHS).

ACTION: Notice.

SUMMARY: The Centers for Disease Control and Prevention (CDC), located within the Department of Health and Human Services (HHS), announces the award of approximately $2,000,000, with an expected total funding of approximately $11,500,000 over a five-Year period, to the National Institute for Communicable Diseases, Republic of South Africa. The award will support research studies on influenza and other respiratory pathogens of public health import in South Africa.

DATES: The period for this award will be September 1, 2024 through August 31, 2029.

FOR FURTHER INFORMATION CONTACT: Dr. Amy Yang, National Center for HIV, Viral Hepatitis, STD, and TB Prevention, Centers for Disease Control and Prevention, 1600 Clifton Road NE, Mailstop US8-1, Atlanta, Georgia 30329 Telephone: 404-718-8836. Email: AYang@cdc.gov.

SUPPLEMENTARY INFORMATION: The single-source award will conduct research on surveillance (including epidemiology, disease burden, transmission, and laboratory methods), preventive tools and strategies (e.g., vaccines, antivirals), and strategies for increasing coverage of morbidity and mortality mitigating interventions. Data will be used to inform prioritization of public health interventions in high-risk populations in South Africa, regionally and globally.

The National Institute for Communicable Diseases is in a unique position to conduct this work, as it is the only sufficiently advanced governmental research, public health institute, and laboratory in the sub-region that can perform sophisticated studies and laboratory analyses required to understand influenza disease burden, evaluate intervention efficacy and effectiveness, and intervention scale-up that is in the Southern Hemisphere.

Summary of the Award

Recipient: National Institute for Communicable Diseases, Republic of South Africa

Purpose of the Award: The purpose of this award is to conduct research studies on influenza and other respiratory pathogens of public health import in South Africa, specifically, focusing on surveillance (including epidemiology, disease burden, transmission, and laboratory methods), preventive tools and strategies (e.g., vaccines, antivirals), and strategies for increasing coverage of morbidity and mortality mitigating interventions. Data will be used to inform prioritization of public health interventions in high-risk populations in South Africa, regionally and globally.

Amount of Award: $2,000,000 in Federal fiscal year (FFY) 2024 funds, with a total estimated $11,500,000 for the 5-year period of performance, subject to availability of funds.

Authority: This program is authorized under Public Health Service Act, section 307 [42 U.S.C. 242l], as amended.

Period of Performance: September 1, 2024 through August 31, 2029.

Dated: June 13, 2023.
Terrance Perry,
Chief Grants Management Officer, Centers for Disease Control and Prevention.

[FR Doc. 2023-12963 Filed 6-15-23; 8:45 am]

BILLING CODE 4163-18-P